ENVIRONMENTAL PROTECTION AGENCY

40 CFR Part 52

[EPA-R09-OAR-2021-0818; FRL-9264-01-R9]

Air Plan Approval; California; Northern Sierra Air Quality Management District; Reasonably Available Control Technology

AGENCY: Environmental Protection Agency (EPA).

ACTION: Proposed rule.

SUMMARY: The Environmental Protection Agency (EPA) is proposing to approve a revision to the Northern Sierra Air Quality Management District (NSAQMD or “District”) portion of the California State Implementation Plan (SIP). This revision concerns the District's demonstration regarding reasonably available control technology (RACT) requirements for the 2015 8-hour ozone national ambient air quality standard (NAAQS or “standards”) in the Western Nevada County (“Western Nevada”) ozone nonattainment area (NAA), which is under the jurisdiction of the NSAQMD. We are taking comments on this proposal and plan to follow with a final action.

DATES: Comments must be received on or before March 14, 2022.

ADDRESSES: Submit your comments, identified by Docket ID No. EPA-R09-OAR-2021-0818 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Nancy Levin, EPA Region IX, 75 Hawthorne St., San Francisco, CA 94105. By phone: (415) 972-3848 or by email at levin.nancy@epa.gov.

SUPPLEMENTARY INFORMATION: Throughout this document, “we,” “us” and “our” refer to the EPA.

Table of Contents

I. The State's Submittal

A. What document did the State submit?

B. Are there other versions of this document?

C. What is the purpose of the submitted document?

II. The EPA's Evaluation and Proposed Action

A. How is the EPA evaluating the submitted document?

B. Does the document meet the evaluation criteria?

C. The EPA's Recommendations To Further Improve the RACT SIP

D. Public Comment and Proposed Action

III. Statutory and Executive Order Reviews

I. The State's Submittal

A. What document did the State submit?

On January 25, 2021, the NSAQMD adopted the “Reasonably Available Control Technology (RACT) State Implementation Plan (SIP) Revision for Western Nevada County 8-Hour Ozone Nonattainment Area” (“2015 ozone RACT SIP”), and on March 23, 2021, the California Air Resources Board (CARB) submitted it to the EPA for approval as a revision to the California SIP.

On September 23, 2021, the submittal for the NSAQMD 2015 ozone RACT SIP was deemed by operation of law to meet the completeness criteria in 40 CFR part 51 Appendix V, which must be met before formal EPA review.

B. Are there other versions of this document?

There are no previous versions of this document in the NSAQMD portion of the California SIP for the 2015 8-hour ozone NAAQS.

C. What is the purpose of the submitted document?

Volatile organic compounds (VOCs) and oxides of nitrogen (NOX) contribute to the production of ground-level ozone, smog, and particulate matter, which harm human health and the environment. Section 110(a) of the CAA requires states to submit regulations that control VOCs and NOX emissions. CAA sections 182(b)(2) and (f) require that SIPs for areas designated nonattainment for the ozone NAAQS and classified as Moderate or above implement RACT for any source covered by a Control Techniques Guidelines (CTG) document and for any major source of VOCs or NOX.¹

¹ Any stationary source that emits or has the potential to emit at least 100 tpy of VOCs or NOX is a major stationary source in a Moderate ozone nonattainment area (CAA section 182(b)(2), (f), and 302(j)).

The NSAQMD is subject to this RACT SIP requirement, as the District regulates the Western Nevada NAA, which was classified as Moderate for the 2015 8-hour ozone NAAQS on June 4, 2018.² Therefore, to satisfy sections 182(b)(2) and (f) of the Act, the NSAQMD must, at a minimum, adopt RACT-level controls for all sources covered by a CTG document and for all major non-CTG sources of VOCs or NOX within the ozone nonattainment area that it regulates.

² 83 FR 25776.

We note that the EPA issued a final rule on October 28, 2021, in which it reclassified Western Nevada County as “Serious” nonattainment for the 2015 8-hour ozone NAAQS (“2015 ozone NAAQS”).³ This final rule established a Serious area RACT SIP deadline and implementation schedule. NSAQMD adopted its Moderate area 2015 ozone RACT SIP in January 2021, when it was classified as a Moderate ozone NAA. We are addressing the Moderate area requirements in this notice.

³ 86 FR 59648.

Section III.F of the preamble to the EPA's final rule to implement the 2015 ozone NAAQS (“2015 State Requirements Rule”) finalized the proposal “to retain our existing RACT requirements codified in 40 CFR 51.1112 and to add new deadline requirements for certain RACT SIP submissions . . .”.⁴ It states “[F]or reference, the final 2008 Ozone NAAQS SIP Requirements Rule provides an extensive discussion of the EPA's rationale and approach for how air agencies can provide for RACT in their nonattainment SIPs (80 FR 12278; March 6, 2015).” The 2008 ozone SIP Requirements Rule states, in part, that RACT SIPs must contain adopted RACT regulations, certifications (where appropriate) that existing provisions are RACT, and/or negative declarations that no sources in the nonattainment area are covered by a specific CTG.⁵ It also provides that states must submit appropriate supporting information for their RACT submissions as described in the EPA's implementation rule for the 1997 ozone NAAQS.⁶

⁴ 83 FR 62998, 63007.

⁵ 80 FR 12264, 12278.

⁶ Id.; 70 FR 71612, 71652 (November 29, 2005).

The 2015 ozone RACT SIP, including its negative declarations, provide the NSAQMD's analysis of its compliance with CAA section 182 RACT requirements for the 2015 8-hour ozone NAAQS. The EPA's technical support document (TSD) for this action has more information about the District's submittal and the EPA's evaluation thereof.

II. The EPA's Evaluation and Proposed Action

A. How is the EPA evaluating the submitted document?

Generally, SIP rules must require RACT for each category of sources covered by a CTG document and for each major source of VOCs or NOX in ozone nonattainment areas classified as Moderate or above (see CAA sections 182(b)(2) and (f), and 40 CFR 51.1312(a) and (b)). At the time of submittal, NSAQMD regulated an ozone nonattainment area classified as Moderate for the 2015 ozone standard (40 CFR 81.305). Therefore, NSAQMD rules must implement RACT.⁷

⁷ On October 28, 2021, the EPA reclassified the Western Nevada 2015 ozone nonattainment area from “Moderate” to “Serious,” and established a Serious area RACT SIP deadline of November 29, 2023 (86 FR 59648).

States should also submit for SIP approval negative declarations for those source categories for which they have not adopted RACT-level regulations (because they have no sources above the CTG-recommended applicability threshold), regardless of whether such negative declarations were made for an earlier SIP.⁸ To do so, the submittal should provide reasonable assurance that no sources subject to the CTG requirements currently exist in the portion of the ozone nonattainment area that is regulated by the District.

⁸ 57 FR 13498, 13512 (April 16, 1992).

With respect to NSAQMD, the District's analysis must demonstrate that each major source of VOCs or NOX in the Western Nevada NAA is covered by a RACT-level rule. In addition, for each CTG source category, the District must either demonstrate that a RACT-level rule is in place, or submit a negative declaration. Guidance and policy documents that we use to evaluate CAA section 182 RACT requirements include the following:

1. “State Implementation Plans; General Preamble for the Implementation of Title I of the Clean Air Act Amendments of 1990,” 57 FR 13498 (April 16, 1992); 57 FR 18070 (April 28, 1992).

2. EPA Office of Air Quality Planning and Standards, “Issues Relating to VOC Regulation Cutpoints, Deficiencies, and Deviations,” May 25, 1988 (“the Bluebook,” revised January 11, 1990).

3. “Guidance Document for Correcting Common VOC & Other Rule Deficiencies,” EPA Region 9, August 21, 2001 (the Little Bluebook).

4. “State Implementation Plans; Nitrogen Oxides Supplement to the General Preamble; Clean Air Act Amendments of 1990 Implementation of Title I; Proposed Rule,” (“the NOX Supplement”), 57 FR 55620, (November 25, 1992).

5. Memorandum dated May 18, 2006, from William T. Harnett, Director, Air Quality Policy Division, to Regional Air Division Directors, Subject: “RACT Qs & As—Reasonably Available Control Technology (RACT): Questions and Answers.”

6. “Final Rule to Implement the 8-hour Ozone National Ambient Air Quality Standard—Phase 2,” 70 FR 71612 (November 29, 2005).

7. “Implementation of the 2008 National Ambient Air Quality Standards for Ozone: State Implementation Plan Requirements,” 80 FR 12264 (March 6, 2015).

8. “Implementation of the 2015 National Ambient Air Quality Standards for Ozone: Nonattainment Area State Implementation Plan Requirements,” 83 FR 62998 (December 6, 2018).

B. Does the document meet the evaluation criteria?

NSAQMD's 2015 ozone RACT SIP provides the District's demonstration that the applicable SIP for the Western Nevada NAA, which is under the jurisdiction of the NSAQMD, satisfies CAA section 182 RACT requirements for the 2015 ozone NAAQS. The District's conclusion is based on its analysis of SIP-approved requirements that apply to the following: (1) Source categories for which a CTG has been issued, and (2) major non-CTG stationary sources of VOC or NOX emissions.

With respect to CTG source categories, the NSAQMD determined that it only had sources subject to the CTGs covering gasoline service stations and vapor recovery operations, gasoline tank truck vapor tightness, and cutback asphalt. For each of these CTG source categories, the District's submittal provided an analysis to support the District's finding that a District rule previously approved by the EPA into the SIP as RACT for Western Nevada remains RACT for the 2015 ozone NAAQS. Specifically, the “Staff Report analyzing RACT for the 2015 Ozone NAAQS SIP” provides a discussion of the following District rules and why they continue to implement RACT: Rule 214, “Phase I Vapor Recovery Requirements;” and Rule 227, “Cutback and Emulsified Asphalt Paving Materials.” ⁹ We reviewed the NSAQMD's evaluation of its rules addressing the CTG source categories that are subject to RACT in Western Nevada, which are as follows: “Design Criteria for Stage I Vapor Control Systems—Gasoline Service Stations” (EPA-450/R-75-102),”Control of Volatile Organic Compound Leaks from Gasoline Tank Trucks and Vapor Collection Systems” (EPA-450/2-78-051), and “Control of Volatile Organic Compounds from Use of Cutback Asphalt” (EPA-450/2-77-37).¹⁰ We agree that the District's rules are generally consistent with the CTGs and with recently adopted rules in other air districts, and therefore satisfy CAA RACT requirements for the 2015 ozone NAAQS. In this rulemaking, we propose to find that NSAQMD Rules 214 and 227 establish RACT-level controls for the sources within the applicable CTG categories. Our TSD has additional information about our evaluation of these rules.

⁹ The Staff Report also includes a discussion of two rules that the NSAQMD states are not needed for the 2015 ozone RACT SIP: Rule 215, “Phase II Vapor Recovery System Requirements;” and Rule 228, “Surface Coating of Metal Parts and Products.” While NSAQMD reviewed Rule 215, “Phase II Vapor Recovery System Requirements,” as meeting RACT, and the EPA has approved the rule as meeting RACT for the 2008 ozone NAAQS, the EPA has not published a CTG for vehicle refueling operations. District Rule 228, corresponds to the CTG entitled “Control of Volatile Organic Emissions from Existing Stationary Sources, Volume VI: Surface Coating of Miscellaneous Metal Parts and Products, and Control Techniques Guidelines for Miscellaneous Metal and Plastic Parts Coatings” (EPA-453/R-08-003).

¹⁰ District Rule 214 corresponds to the CTGs entitled “Design Criteria for Stage I Vapor Control Systems—Gasoline Service Stations” (EPA-450/R-75-102) and “Control of Volatile Organic Compound Leaks from Gasoline Tank Trucks and Vapor Collection Systems” (EPA-450/2-78-051). District Rule 227 corresponds to the CTG entitled, “Cutback and Emulsified Asphalt Paving Materials,” corresponds to the CTG entitled “Control of Volatile Organic Compounds from Use of Cutback Asphalt” (EPA-450/2-77-37).

Where there are no existing sources covered by a particular CTG document, or no major non-CTG sources of NOX or VOC, states may, in lieu of adopting RACT requirements for those sources, adopt negative declarations certifying that there are no such sources in the relevant nonattainment area.

The submittal contains a table listing the EPA's CTGs and annotates those CTGs for which the District is adopting a negative declaration, indicating that the District has no sources subject to the applicable CTG for the 2015 ozone NAAQS. These negative declarations are listed in Table 1 below. The District concludes that it has no sources subject to the relevant CTGs, based on a review of its permit files, planning documents, and the emissions inventory.

In addition, the NSAQMD determined “there are no existing or anticipated major sources” of VOC or NOX located in the Western Nevada NAA. The NSAQMD states “the largest-emitting stationary source of ozone precursors in the nonattainment area (an asphalt batch plant) emitted 0.79 tons of NOX (4.3 pounds/day) and 0.02 tons of TOG [VOC] (0.1 pounds/day) in 2019.”

We reviewed the District's list of negative declarations in the submittal and CARB Emissions Inventory data and performed a general internet search to verify the District's conclusion that it has no sources subject to the CTGs for which it has adopted negative declarations, and has no non-CTG major sources of VOC or NOX. Based on our review, we agree with the District's negative declarations in the 2015 ozone RACT SIP, including negative declarations for non-CTG major sources of VOC and NOX, and propose to approve them into the SIP.

Table 1—CTG Negative Declarations for 2015 Ozone NAAQS—Western Nevada NAA
CTG No. | CTG title
EPA-450/2-77-008 | Surface Coating of Cans.
EPA-450/2-77-008 | Surface Coating of Coils.
EPA-450/2-77-008 | Surface Coating of Paper.
EPA-450/2-77-008 | Surface Coating of Fabric.
EPA-450/2-77-008 | Surface Coating of Automobiles and Light-Duty Trucks.
EPA-450/2-77-022 | Solvent Metal Cleaning.
EPA-450/2-77-025 | Refinery Vacuum Producing Systems, Wastewater Separators, and Process Unit Turnarounds.
EPA-450/2-77-026 | Tank Truck Gasoline Loading Terminals.
EPA-450/2-77-032 | Surface Coating of Metal Furniture.
EPA-450/2-77-033 | Surface Coating for Insulation of Magnet Wire.
EPA-450/2-77-034 | Surface Coating of Large Appliances.
EPA-450/2-77-035 | Bulk Gasoline Plants.
EPA-450/2-77-036 | Storage of Petroleum Liquids in Fixed-Roof Tanks.
EPA-450/2-78-015 | Surface Coating of Miscellaneous Metal Parts and Products.
EPA-450/2-78-029 | Manufacture of Synthesized Pharmaceutical Products.
EPA-450/2-78-030 | Manufacture of Pneumatic Rubber Tires.
EPA-450/2-78-032 | Factory Surface Coating of Flat Wood Paneling.
EPA-450/2-78-033 | Graphic Arts-Rotogravure and Flexography.
EPA-450/2-78-036 | Leaks from Petroleum Refinery Equipment.
EPA-450/2-78-047 | Petroleum Liquid Storage in External Floating Roof Tanks.
EPA-450/3-82-009 | Large Petroleum Dry Cleaners.
EPA-450/3-83-006 | Leaks from Synthetic Organic Chemical and Polymer Manufacturing Equipment.
EPA-450/3-83-007 | Equipment Leaks from Natural Gas/Gasoline Processing Plants.
EPA-450/3-83-008 | Manufacture of High-Density Polyethylene, Polypropylene, and Polystyrene Resins.
EPA-450/3-84-015 | Air Oxidation Processes in Synthetic Organic Chemical Manufacturing Industry.
EPA-450/4-91-031 | Reactor Processes and Distillation Operations Processes in the Synthetic Organic Chemical Manufacturing Industry.
EPA-453/R-96-007 | Wood Furniture Manufacturing Operations.
EPA-453/R-94-032 | ACT Surface Coating Operations at Shipbuilding and Ship Repair Facilities.
61 FR 44050; 8/27/96 | Shipbuilding and Ship Repair Operations (Surface Coating).
59 FR 29216; 6/06/94 | NESHAPS Aerospace Manufacturing and Rework.
EPA-453/R-97-004 | Coating Operations at Aerospace Manufacturing and Rework Operations.
EPA-453/R-06-001 | Industrial Cleaning Solvents.
EPA-453/R-06-002 | Offset Lithographic Printing and Letterpress Printing.
EPA-453/R-06-003 | Flexible Package Printing.
EPA-453/R-06-004 | Flat Wood Paneling Coatings.
EPA 453/R-07-003 | Paper, Film, and Foil Coatings.
EPA 453/R-07-004 | Large Appliance Coatings.
EPA 453/R-07-005 | Metal Furniture Coatings.
EPA 453/R-08-003 | Miscellaneous Metal and Plastic Parts Coatings; Table 2—Metal Parts and Products.
EPA 453/R-08-003 | Miscellaneous Metal and Plastic Parts Coatings; Table 3—Plastic Parts and Products.
EPA 453/R-08-003 | Miscellaneous Metal and Plastic Parts Coatings; Table 4—Automotive/Transportation and Business Machine Plastic Parts.
EPA 453/R-08-003 | Miscellaneous Metal and Plastic Parts Coatings; Table 5—Pleasure Craft Surface Coating.
EPA 453/R-08-003 | Miscellaneous Metal and Plastic Parts Coatings; Table 6—Motor Vehicle Materials.
EPA 453/R-08-004 | Fiberglass Boat Manufacturing Materials.
EPA 453/R-08-005 | Miscellaneous Industrial Adhesives.
EPA 453/R-08-006 | Automobile and Light-Duty Truck Assembly Coatings.
EPA 453/B-16-001 | Oil and Natural Gas Industry.

C. The EPA's Recommendations To Further Improve the RACT SIP

Our TSD includes recommendations for future rule improvements.

D. Public Comment and Proposed Action

As authorized in section 110(k)(3) of the Act, the EPA proposes to fully approve CARBs submittal of the NSAQMD RACT SIP for the 2015 ozone NAAQS, as reflected in Tables 2 and 3, because the submittal fulfills the RACT SIP requirements under CAA sections 182(b) and (f) and 40 CFR 51.1312(a) and (b) for the 2015 ozone NAAQS. We will accept comments from the public on this proposal until March 14, 2022. If we take final action to approve the submitted document, our final action will incorporate this document into the federally enforceable SIP.

Table 2—CTGs for 2015 Ozone NAAQS—Western Nevada NAA
CTG No. | CTG title | Rule claimed as current RACT | Negative declaration adopted
EPA-450/R-75-102 | Design Criteria for Stage I Vapor Control—Gasoline Service Stations | Rule 214 (78 FR 897, 1/7/13)
EPA-450/2-77-008 | Surface Coating of Cans |  | ᵃ 1/25/2021
EPA-450/2-77-008 | Surface Coating of Coils |  | ᵃ 1/25/2021
EPA-450/2-77-008 | Surface Coating of Paper |  | ᵃ 1/25/2021
EPA-450/2-77-008 | Surface Coating of Fabric |  | ᵃ 1/25/2021
EPA-450/2-77-008 | Surface Coating of Automobiles and Light-Duty Trucks |  | ᵃ 1/25/2021
EPA-450/2-77-022 | Solvent Metal Cleaning |  | ᵇ 1/25/2021
EPA-450/2-77-025 | Refinery Vacuum Producing Systems, Wastewater Separators, and Process Unit Turnarounds |  | ᵃ 1/25/2021
EPA-450/2-77-026 | Tank Truck Gasoline Loading Terminals |  | ᵃ 1/25/2021
EPA-450/2-77-032 | Surface Coating of Metal Furniture |  | ᶜ 1/25/2021
EPA-450/2-77-033 | Surface Coating for Insulation of Magnet Wire |  | ᵃ 1/25/2021
EPA-450/2-77-034 | Surface Coating of Large Appliances |  | ᵃ 1/25/2021
EPA-450/2-77-035 | Bulk Gasoline Plants |  | ᵈ 1/25/2021
EPA-450/2-77-036 | Storage of Petroleum Liquids in Fixed-Roof Tanks |  | ᵃ 1/25/2021
EPA-450/2-77-037 | Cutback Asphalt | Rule 227, 74 FR 56120 (10/30/09)
EPA-450/2-78-015 | Surface Coating of Miscellaneous Metal Parts and Products |  | ᵃ ʲ 1/25/2021
EPA-450/2-78-029 | Manufacture of Synthesized Pharmaceutical Products |  | ᵃ 1/25/2021
EPA-450/2-78-030 | Manufacture of Pneumatic Rubber Tires |  | ᵃ 1/25/2021
EPA-450/2-78-032 | Factory Surface Coating of Flat Wood Paneling |  | ᵃ 1/25/2021
EPA-450/2-78-033 | Graphic Arts-Rotogravure and Flexography |  | ᵉ 1/25/2021
EPA-450/2-78-036 | Leaks from Petroleum Refinery Equipment |  | ᵃ 1/25/2021
EPA-450/2-78-047 | Petroleum Liquid Storage in External Floating Roof Tanks |  | ᵃ 1/25/2021
EPA-450/2-78-051 | Leaks from Gasoline Tank Trucks and Vapor Collection Systems | Rule 214 (78 FR 897, 1/7/13)
EPA-450/3-82-009 | Large Petroleum Dry Cleaners |  | ᶠ 1/25/2021
EPA-450/3-83-006 | Leaks from Synthetic Organic Chemical and Polymer Manufacturing Equipment |  | ᵃ 1/25/2021
EPA-450/3-83-007 | Equipment Leaks from Natural Gas/Gasoline Processing Plants |  | ᵃ 1/25/2021
EPA-450/3-83-008 | Manufacture of High-Density Polyethylene, Polypropylene, and Polystyrene Resins |  | ᵃ 1/25/2021
EPA-450/3-84-015 | Air Oxidation Processes in Synthetic Organic Chemical Manufacturing Industry |  | ᶠ 1/25/2021
EPA-450/4-91-031 | Reactor Processes and Distillation Operations Processes in the Synthetic Organic Chemical Manufacturing Industry |  | ᵃ 1/25/2021
EPA-453/R-96-007 | Wood Furniture Manufacturing Operations |  | ⁱ 1/25/2021
EPA-453/R-94-032 | ACT Surface Coating Operations at Shipbuilding and Ship Repair Facilities |  | ᵃ 1/25/2021
61 FR 44050; 8/27/96 | Shipbuilding and Ship Repair Operations (Surface Coating)
59 FR 29216; 6/06/94 | NESHAPS Aerospace Manufacturing and Rework |  | ᵃ 1/25/2021
EPA-453/R-97-004 | Coating Operations at Aerospace Manufacturing and Rework Operations
EPA-453/R-06-001 | Industrial Cleaning Solvents |  | ᶜ 1/25/2021
EPA-453/R-06-002 | Offset Lithographic Printing and Letterpress Printing |  | ᵍ 1/25/2021
EPA-453/R-06-003 | Flexible Package Printing |  | ᵍ 1/25/2021
EPA-453/R-06-004 | Flat Wood Paneling Coatings |  | ᵃ 1/25/2021
EPA 453/R-07-003 | Paper, Film, and Foil Coatings |  | ᵃ 1/25/2021
EPA 453/R-07-004 | Large Appliance Coatings |  | ᵃ 1/25/2021
EPA 453/R-07-005 | Metal Furniture Coatings |  | ᵃ 1/25/2021
EPA 453/R-08-003 | Miscellaneous Metal and Plastic Parts Coatings; Table 2—Metal Parts and Products |  | ʰ ʲ 1/25/2021
EPA 453/R-08-003 | Miscellaneous Metal and Plastic Parts Coatings; Table 3—Plastic Parts and Products |  | ʰ 1/25/2021
EPA 453/R-08-003 | Miscellaneous Metal and Plastic Parts Coatings; Table 4—Automotive/Transportation and Business Machine Plastic Parts |  | ʰ 1/25/2021
EPA 453/R-08-003 | Miscellaneous Metal and Plastic Parts Coatings; Table 5—Pleasure Craft Surface Coating |  | ʰ 1/25/2021
EPA 453/R-08-003 | Miscellaneous Metal and Plastic Parts Coatings; Table 6—Motor Vehicle Materials |  | ʰ 1/25/2021
EPA 453/R-08-004 | Fiberglass Boat Manufacturing Materials |  | ʰ 1/25/2021
EPA 453/R-08-005 | Miscellaneous Industrial Adhesives |  | ᵍ 1/25/2021
EPA 453/R-08-006 | Automobile and Light-Duty Truck Assembly Coatings |  | ᶜ 1/25/2021
EPA 453/B-16-001 | Oil and Natural Gas Industry |  | ᵃ 1/25/2021
ᵃ No existing or anticipated sources.
ᵇ Exempt—rural (pop. <200,000).
ᶜ No sources exceed actual emissions of 15 lbs/day.
ᵈ No sources exceed 4,000 gallons per day throughput on a 30-day rolling average.
ᵉ No sources that exceed 100 tpy.
ᶠ No sources exceed 32,500 gallons/year.
ᵍ No sources exceed actual emissions of 15 lbs./day or 3 tons per 12-month period.
ʰ No sources that exceed actual emissions of 15 lbs./day or 2.7 tons per 12-month period.
ⁱ No sources exceed 25 tons per year of VOCs PTE.
ʲ 2021-11-23 email from S. Longmire, NSAQMD to N. Levin, EPA Re_RACT Submittal for 2015 Ozone NAAQS.

Table 3—Major Sources of NOX and Non-CTG VOC for 2015 Ozone NAAQS—Western Nevada NAA
Category | Major sources in NAA? | Rule(s) claimed as current RACT | Negative declaration adopted
Major non-CTG sources of VOC | No | N/A | ᵃ 1/25/2021
Major sources of NOX | No | N/A | ᵃ 1/25/2021
ᵃ No existing or anticipated sources.

III. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Volatile organic compounds.

Authority: 42 U.S.C. 7401 et seq.

Dated: February 3, 2022.
Martha Guzman Aceves,
Regional Administrator, Region IX.

[FR Doc. 2022-02772 Filed 2-9-22; 8:45 am]

BILLING CODE 6560-50-P